ENVIRONMENTAL PROTECTION AGENCY

[FRL-11776-01-OW]

Environmental Financial Advisory Board Charter Renewal

AGENCY: Environmental Protection Agency (EPA).

ACTION: Notice.

SUMMARY: The Charter for the U.S. Environmental Protection Agency's (EPA) Environmental Financial Advisory Board (EFAB) will be renewed for an additional two-year period, as a necessary committee which is in the public interest, in accordance with the provisions of the Federal Advisory Committee Act (FACA). The purpose of the EFAB is to provide advice and recommendations to the EPA Administrator on issues associated with environmental financing. It is determined that the EFAB is in the public interest in connection with the performance of duties imposed on the agency by law.

FOR FURTHER INFORMATION CONTACT: Inquiries may be directed to Tara Johnson, Water Infrastructure and Resiliency Finance Center, U.S. EPA, 1200 Pennsylvania Avenue NW, Washington, DC 20460 (Mail Code: 4204M), Telephone (202) 564-6186, or johnson.tara@epa.gov.

SUPPLEMENTARY INFORMATION:

Background: The EFAB is an EPA advisory committee chartered under the Federal Advisory Committee Act (FACA), 5 U.S.C., app. 2, to provide advice and recommendations to the EPA on innovative approaches to financing environmental programs, projects, and activities.

Andrew D. Sawyers,
Director, Office of Wastewater Management, Office of Water.

[FR Doc. 2024-05047 Filed 3-8-24; 8:45 am]

BILLING CODE 6560-50-P